DEPARTMENT OF TRANSPORTATION

Research and Special Programs Administration (RSPA)

[Docket No. RSPA-00-7666; Notice 1 and RSPA-00-7408; Notice 1]

Pipeline Safety: Pipeline Integrity Management in High Consequence Areas (Natural Gas Pipelines) and Communications (Natural Gas and Hazardous Liquid Pipelines)

AGENCY: Office of Pipeline Safety, Research and Special Programs Administration, DOT.

ACTION: Notice of public meeting and request for comments; correction.

SUMMARY: RSPA published a document in the Federal Register on January 4, 2001, (66 FR 848) regarding a public meeting to be held February 12-14, 2001 on Pipeline Integrity Management in High Consequence Areas (Natural Gas Pipelines) and Communications (Natural Gas and Hazardous Liquid Pipelines). The document contained errors in reference to the ending times of the meeting on February 12, 2001 and on February 13, 2001.

FOR FURTHER INFORMATION CONTACT: Elizabeth Callsen, OPS, (202) 366-4572.

Correction

In the Federal Register issue of January 4, 2001, 66 FR 848, in the second column, correct the second full paragraph to read: DATES: The public meeting will be on February 12, 2001, from 9 a.m. to 5 p.m., February 13, 2001, from 9 a.m. to 5 p.m., and February 14, 2001, from 9 a.m. to 12 noon, at the Crystal City Marriott.

Issued in Washington, DC on February 5, 2001.
Stacey L. Gerard,
Associate Administrator for Pipeline Safety.

[FR Doc. 01-3398 Filed 2-8-01; 8:45 am]

BILLING CODE 4910-60-P